DEPARTMENT OF THE INTERIOR

Minerals Management Service

Agency Information Collection Activities: Submitted for Office of Management and Budget (OMB) Review, Comment Request

AGENCY: Minerals Management Service (MMS), Interior.

ACTION: Notice of an extension of a currently approved information collection (OMB Control Number 1010-0088).

SUMMARY: To comply with the Paperwork Reduction Act (PRA) (44 U.S.C. 3501 et seq.), we are submitting to OMB for review and approval an information collection request (ICR) titled, Delegation of Authority to States. We are also soliciting comments from the public on this ICR which describes the information collection, its expected costs and burden, and how the data will be collected.

DATES: Submit written comments on or before August 4, 2000.

ADDRESSES: You may submit comments directly to the Office of Information and Regulatory Affairs, OMB, Attention: Desk Officer for the Department of the Interior (OMB Control Number 1010-0088), 725 17th Street, NW, Washington, DC 20503. Also, submit copies of your written comments to David S. Guzy, Chief, Rules and Publications Staff, Minerals Management Service, Royalty Management Program, P.O. Box 25165, MS 3021, Denver, Colorado 80225. If you use an overnight courier service, our courier address is Building 85, Room A-613, Denver Federal Center, Denver, Colorado 80225.

Public Comment Procedure

You may mail your comments and copies of your comments to the offices listed in the ADDRESSES section, or you may email us at RMP.comments@mms.gov. Please include the title of the information collection and the OMB Control Number in the “Attention” line of your comment; also, include your name and return address. Submit electronic comments as an ASCII file avoiding the use of special characters and any form of encryption. If you do not receive a confirmation that we have received your email, contact David S. Guzy at (303) 231-3432. We will post all comments for public review on our web site at http://www.rmp.mms.gov. Also, to view paper copies of these comments, please contact David S. Guzy at (303) 231-3432, FAX (303) 231-3385. Our practice is to make these paper comments, including names and addresses of respondents, available for public review during regular business hours at our offices in Lakewood, Colorado.

Individual respondents may request that we withhold their home address from the rulemaking record, which we will honor to the extent allowable by law. There also may be circumstances in which we would withhold from the rulemaking record a respondent's identity, as allowable by law. If you wish us to withhold your name and/or address, you must state this prominently at the beginning of your comments. However, we will not consider anonymous comments. We will make all submissions from organizations or businesses, and from individuals identifying themselves as representatives or officials of organizations or businesses, available for public inspection in their entirety.

FOR FURTHER INFORMATION CONTACT: Dennis C. Jones, Rules and Publications Staff, telephone (303) 231-3046, FAX (303) 231-3385, email Dennis.C.Jones@mms.gov. A copy of the ICR is available to you without charge upon request.

SUPPLEMENTARY INFORMATION: Title: Delegation of Authority to States.

OMB Control Number: OMB 1010-0088.

Bureau Form Number: N/A.

Abstract: The Department of the Interior (DOI) is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws. The Secretary also has an Indian trust responsibility to manage Indian lands and seek advice and information from Indian beneficiaries. We perform the royalty management functions and assist the Secretary in carrying out DOI's Indian trust responsibility.

The Royalty Simplification and Fairness Act (RSFA) amendments to section 205 of the Federal Oil and Gas Royalty Management Act of 1982 provide that we may delegate other Federal royalty management functions to requesting States, including:

a. Conducting audits, and investigations;

b. Receiving and processing production and royalty reports;

c. Correcting erroneous report data;

d. Performing automated verification; and

e. Issuing demands, subpoenas (except for solid mineral and geothermal leases), orders to perform restructured accounting, and related tolling agreements and notices to lessees or their designees.

In accordance with RSFA, and to properly administer the delegation of the functions to the requesting States, MMS must collect pertinent information from industry and States. Therefore, a State will have to submit an application requesting to perform these delegable functions.

No proprietary data, confidential information, or items of a sensitive nature will be collected. Responses are voluntary.

Frequency: Monthly, quarterly, and annually.

Estimated Number and Description of Respondents: 4,010 States and royalty payors.

Estimated Annual Reporting and Recordkeeping “Hour” Burden: 210,400 hours. Please refer to chart.

Reporting/recordkeeping requirements | Frequency | Number of respondents | X | Burden per reqmnt | = | Annual burden hours
Application, vouchers, work plans, recordkeeping | Monthly Quarterly Annually | 4 States |  | 2,000 |  | 8,000
Delegated audit functions | Monthly Quarterly Annually | 6 States |  | 400 |  | 2,400
Coordination of information reported among/between MMS and a given State or States | Monthly Quarterly Annually | 4,000 payors and reporters |  | 50 |  | 200,000
Total |  | 4,010 |  | 52.5 |  | 210,400

Estimated Annual Reporting and Recordkeeping: “Non-Hour Cost” Burden: $80,000.

Comments: The PRA provides that an agency may not conduct or sponsor, and a person is not required to respond to, a collection of information unless it displays a currently valid OMB Control Number. Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

We published a Federal Register Notice on December 3, 1999 (64 FR 67930), with the required 60-day comment period soliciting comments on renewing OMB's approval to continue to collect this information. No comments were received. If you now wish to comment on this ICR, please send your comments directly to the offices listed under the ADDRESSES section of this Notice. OMB has up to 60 days after reviewing an ICR to approve or disapprove the information collection. However, OMB may act sooner than that once the 30-day public comment period has ended. Therefore, to ensure maximum consideration, you should submit your comments on or before August 4, 2000.

MMS Information Collection Clearance Officer: Jo Ann Lauterbach, telephone (202) 208-7744

Dated: June 20, 2000.
Joan Killgore,
Acting Associate Director for Royalty Management.

[FR Doc. 00-16817 Filed 7-3-00; 8:45 am]

BILLING CODE 4310-MR-P